DEPARTMENT OF THE INTERIOR

Bureau of Reclamation

California Bay-Delta Public Advisory Committee Public Meeting

AGENCY: Bureau of Reclamation, Interior.

ACTION: Notice of meeting.

SUMMARY: In accordance with the Federal Advisory Committee Act, the California Bay-Delta Public Advisory Committee will meet on September 8 and 9, 2004. The agenda for the meeting will include administrative actions carried over from the July meeting, a report from the Independent Science Board and the Lead Scientist, a discussion of the Delta Improvements Package, a possible recommendation on the Finance Options Report, consideration of Proposal Solicitation Packages for State agency grants, and a discussion of the overall balance and integration of the CALFED Bay-Delta Program with State and Federal agency representatives.

DATES: The meeting will be held on Wednesday, September 8, 2004, from 12 p.m. to 4 p.m., and on Thursday, September 9, 2004, from 9 a.m. to 4 p.m. If reasonable accommodation is needed due to a disability, please contact Pauline Nevins at (916) 445-5511 or TDD (800) 735-2929 at least 1 week prior to the meeting.

ADDRESSES: The meeting will be held at the California Bay-Delta Authority offices at 650 Capitol Mall, 5th Floor, Bay-Delta Room, Sacramento, California.

FOR FURTHER INFORMATION CONTACT: Heidi Rooks, California Bay-Delta Authority, at (916) 445-5511, or Diane Buzzard, U.S. Bureau of Reclamation, at (916) 978-5022.

SUPPLEMENTARY INFORMATION: The Committee was established to provide recommendations to the Secretary of the Interior, other participating Federal agencies, the Governor of the State of California, and the California Bay-Delta Authority on implementation of the CALFED Bay-Delta Program. The Committee makes recommendations on annual priorities, integration of the eleven Program elements, and overall balancing of the four Program objectives of ecosystem restoration, water quality, levee system integrity, and water supply reliability. The Program is a consortium of State and Federal agencies with the mission to develop and implement a long-term comprehensive plan that will restore ecological health and improve water management for beneficial uses of the San Francisco/Sacramento and San Joaquin Bay Delta.

Committee and meeting materials will be available on the California Bay-Delta Authority Web site at http://calwater.ca.gov and at the meeting. This meeting is open to the public. Oral comments will be accepted from members of the public at the meeting and will be limited to 3-5 minutes.

(Authority: The Committee was established pursuant to the Department of the Interior's authority to implement the Fish and Wildlife Coordination Act, 16 USC. § 661 et. seq., the Endangered Species Act, 16 USC § 1531 et. seq., and the Reclamation Act of 1902, 43 USC 371 et. seq., and the acts amendatory thereof or supplementary thereto, all collectively referred to as the Federal Reclamation laws, and in particular, the Central Valley Project Improvement Act, P.L. 102-575)

Dated: August 3, 2004.
Allan Oto,
Special Projects Officer, Mid-Pacific Region.

[FR Doc. 04-18664 Filed 8-13-04; 8:45 am]

BILLING CODE 4310-MN-M